DEPARTMENT OF ENERGY

Federal Energy Regulatory Commission

[Docket No. CP10-446-000]

Florida Gas Transmission Company, LLC; Notice of Request Under Blanket Authorization

June 4, 2010.

Take notice that on May 28, 2010, Florida Gas Transmission Company, LLC (FGT), 5444 Westheimer Road, Houston, Texas 77056, filed a prior notice request pursuant to sections 157.205, 157.208, and 157.211 of the Commission's regulations under the Natural Gas Act (NGA) for authorization to construct, own, and operate approximately 5.37 miles of 12-inch diameter natural gas pipeline looping of FGT's existing 18-inch Mainline Pipeline (Mainline), all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, FGT proposes to construct, own, and operate approximately 5.37 miles of 12-inch diameter natural gas pipeline, associated metering and regulating facilities, and auxiliary facilities, all of which are located in Miami-Dade County, Florida. FGT states the pipeline modifications are required to accommodate the hydrostatic testing of a portion of its Mainline as part of its integrity management program to ensure the continued safe operation of the pipeline, and to ensure continued deliverability of natural gas. FGT estimates the total cost of the subject facilities is $20.4 million.

Any questions regarding the application should be directed to Stephen Veatch, Senior Director of Certificates & Tariffs, Florida Gas Transmission Company, LLC, 5444 Westheimer Road, Houston, Texas 77056, by telephone at (713) 989-2024, or by facsimile at (713) 989-1158, or by e-mail at stephen.veatch@SUG.com.

Any person may, within 60 days after the issuance of the instant notice by the Commission, file pursuant to Rule 214 of the Commission's Procedural Rules (18 CFR 385.214) a motion to intervene or notice of intervention. Any person filing to intervene or the Commission's staff may, pursuant to section 157.205 of the Commission's regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. 2010-14032 Filed 6-10-10; 8:45 am]

BILLING CODE 6717-01-P